DEPARTMENT OF LABOR

Mine Safety and Health Administration

[OMB Control No. 1219-0148]

Proposed Extension of Information Collection; Proximity Detection Systems for Continuous Mining Machines in Underground Coal Mines

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection for Proximity Detection Systems for Continuous Mining Machines in Underground Coal Mines.

DATES: All comments must be received on or before March 22, 2024.

ADDRESSES: Comments concerning the information collection requirements of this notice may be sent by any of the methods listed below. Please note that late comments received after the deadline will not be considered.

• Federal E-Rulemaking Portal: https://www.regulations.gov. Follow the on-line instructions for submitting comments for docket number MSHA-2023-0057.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977, as amended (Mine Act), 30 U.S.C. 813(h), authorizes MSHA to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal and metal and nonmetal mines.

Under 30 CFR 75.1732, underground coal mine operators must equip continuous mining machines, except full-face continuous mining machines, with proximity detection systems. Miners working near continuous mining machines face pinning, crushing, and striking hazards that result in accidents involving life-threatening injuries and death. Proximity detection is a technology that uses electronic sensors to detect the motion or the location of one object relative to another. Proximity detection systems provide a warning and stop continuous mining machines before a pinning, crushing, or striking accident occurs that could result in injury or death to a miner.

Under 30 CFR 75.1732(d)(1), at the completion of the check of the machine-mounted components of the proximity detection system described under 75.1732(c)(1), a certified person must certify by initials, date, and time that the check was conducted. The certified person is defined under 30 CFR 75.100 as a person who has been certified as a mine foreman (mine manager), an assistant mine foreman (section foreman), or a preshift examiner (mine examiner). Defects found as a result of the check, including corrective actions and dates of corrective actions, must be recorded before the end of the shift.

Under 30 CFR 75.1732(d)(2), the operator must make a record of the defects found as a result of the checks of miner-wearable components required under 75.1732(c)(2), including corrective actions and dates of corrective actions.

Under 30 CFR 75.1732(d)(3), the operator must make a record of the persons trained in the installation and maintenance of proximity detection systems under 75.1732(b)(6).

Under 30 CFR 75.1732(d)(4), the operator must maintain records in a secure book or electronically in a secure computer system not susceptible to alteration.

Under 30 CFR 75.1732(d)(5), the operator must retain records for at least one year and make them available for inspection by authorized representatives of the Secretary and representatives of miners.

II. Desired Focus of Comments

MSHA is soliciting comments concerning the proposed information collection related to Proximity Detection Systems for Continuous Mining Machines in Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Proximity Detection Systems for Continuous Mining Machines in Underground Coal Mines. MSHA has updated the data with respect to the number of respondents, responses, burden hours, and burden costs supporting this information collection request from the previous information collection request.

Type of Review: Extension, without change, of a currently approved collection.

Agency: Mine Safety and Health Administration.

OMB Number: 1219-0148.

Affected Public: Business or other for-profit.

Number of Annual Respondents: 168.

Frequency: Annually.

Number of Annual Responses: 245,337.

Annual Burden Hours: 697 hours.

Annual Respondent or Recordkeeper Cost: $0.

Comments submitted in response to this notice will be summarized and included in the request for Office of Management and Budget approval of the proposed information collection request; they will become a matter of public record and be available at https://www.reginfo.gov.

Song-ae Aromie Noe,
Certifying Officer, Mine Safety and Health Administration.

[FR Doc. 2024-01119 Filed 1-19-24; 8:45 am]

BILLING CODE 4510-43-P